DEPARTMENT OF COMMERCE

Census Bureau

Agency Information Collection Activities; Submission to the Office of Management and Budget (OMB) for Review and Approval; Comment Request; Certification of Identity (Form BC-300); Correction

AGENCY: Census Bureau, Commerce.

ACTION: Notice; correction.

SUMMARY: On December 8, 2021, the Department of Commerce, published a 30-day public comment period notice in the Federal Register with FR Document Number 2021-26557 (Page 69618) seeking public comments for an information collection entitled, “Certification of Identity (Form BC-300).” This document referenced incorrect information in the “Needs and Uses” section, and Commerce hereby issues a correction notice as required by the Paperwork Reduction Act of 1995.

FOR FURTHER INFORMATION CONTACT: For additional information concerning this correction, contact Vernon E. Curry, Chief, Freedom of Information Act/Privacy Act Officer, U.S. Census Bureau, at 301-763-7325, vernon.e.curry@census.gov or at PRAcomments@doc.gov.

SUPPLEMENTARY INFORMATION:

Correction

Needs and Uses

The need for the Certification of Identity (Form BC-300) is imperative to performing accurate controls of the disbursement of personnel records to the public. This information collection is necessary to prevent unauthorized disclosure of records of individuals maintained by the U.S. Census Bureau and all Department of Commerce Bureaus, and allows parties who are, or were, in proceedings to disclose or release their records to an attorney, accredited representative, qualified organization, or other third party.

This information collection request may be viewed at www.reginfo.gov. Follow the instructions to view the Department of Commerce collections currently under review by OMB. Written comments and recommendations for the proposed information collection should be submitted within 30 days of the initial publication notice date of December 8, 2021 on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-26946 Filed 12-13-21; 8:45 am]

BILLING CODE 3510-07-P